DEPARTMENT OF THE TREASURY

Internal Revenue Service

26 CFR Part 1

[REG-144859-04]

RIN 1545-BD72

Section 1367 Regarding Open Account Debt

Correction

In proposed rule document E7-6764 beginning on page 18417 in the issue of Thursday, April 12, 2007, make the following correction:

§ 1.1367-2 [Corrected]

On page 18422, in § 1.1367-2(e), in Example 7, in the table, in the last column, in the last entry, “2,000” should read “$2,000”.

[FR Doc. Z7-6764 Filed 5-9-07; 8:45 am]

BILLING CODE 1505-01-D